Proclamation 8744 of November 1, 2011

National Adoption Month, 2011

By the President of the United States of America

A Proclamation

As a Nation, one of our highest responsibilities is to ensure the health and well-being of our children. With generous hearts and open minds, we strive to make sure all children grow up knowing they have a family that shares with them the warmth, security, and unconditional love that will help them succeed. And yet, more than 100,000 children in America await this most basic support, and still more children abroad live without families. During National Adoption Month, we celebrate the acts of compassion and love that unite children with adoptive families, and we rededicate ourselves to the essential task of providing all children with the comfort and safety of a permanent home.

The decision to adopt a child has brought profound joy and meaning into the lives of Americans across our country. Parents are moved to adopt for reasons as unique and varied as the children they embrace, but they are unified by the remarkable grace of their acts. Adoptive families come in all forms. With so many children waiting for loving homes, it is important to ensure that all qualified caregivers are given the opportunity to serve as adoptive parents, regardless of race, religion, sexual orientation, or marital status.

My Administration remains steadfast in our support of adoptive families and children in need of homes. Earlier this year, I signed the Child and Family Services Improvement and Innovation Act, which reauthorizes child welfare programs and makes new provisions to help reduce the amount of time young children are without permanent families. I also signed the Healthy, Hunger-Free Kids Act to provide balanced, nutritious meals to all children in the foster care system. Last year, during National Adoption Month, I signed the International Adoption Simplification Act, which removed unnecessary regulations and barriers to international adoption. These efforts come in addition to the Adoption Tax Credit, which was extended and expanded as part of the Affordable Care Act to make adoption more accessible to American families. Through these key pieces of legislation, my Administration is moving forward with our commitment to stand with youth in foster care and find new ways to encourage adoption.

Adoption has become a part of many Americans’ lives and has contributed to the character of our Nation. As parents and as family members, it is our task to do all we can to give our children the very best. In caring for our youth and putting them before ourselves, we make a lasting investment not only in their future, but also in the prosperity and strength of our Nation in the years to come. This month and throughout the year, let us recommit to ensuring every child is given the sustaining love of family, the assurance of a permanent home, and the supportive upbringing they deserve.

NOW, THEREFORE, I, BARACK OBAMA, President of the United States of America, by virtue of the authority vested in me by the Constitution and the laws of the United States, do hereby proclaim November 2011 as National Adoption Month. I encourage all Americans to observe this month by answering the call to find homes for every child in America in need of a permanent and caring family, and to support the families who care for them.

IN WITNESS WHEREOF, I have hereunto set my hand this first day of November, in the year of our Lord two thousand eleven, and of the Independence of the United States of America the two hundred and thirty-sixth.

[FR Doc. 2011-28839

Filed 11-3-11; 11:15 am]

Billing code 3295-F2-P